DEPARTMENT OF TRANSPORTATION

Federal Aviation Administration

14 CFR Part 39

[Docket No. FAA-2020-0675; Product Identifier 2018-SW-027-AD; Amendment 39-21174; AD 2020-15-11]

RIN 2120-AA64

Airworthiness Directives; PZL Swidnik S.A. Helicopters

AGENCY: Federal Aviation Administration (FAA), DOT.

ACTION: Final rule; request for comments.

SUMMARY: The FAA is adopting a new airworthiness directive (AD) for PZL Swidnik S.A. Model PZL W-3A helicopters. This AD requires repetitively inspecting the main rotor (M/R) vibration absorber star and depending on the inspection outcome, performing more in-depth inspections and repairing, replacing, or removing the vibration absorber star from service. This AD was prompted by a report of corrosion detected on an M/R vibration absorber star. The actions of this AD are intended to address an unsafe condition on these products.

DATES: This AD becomes effective August 11, 2020.

The Director of the Federal Register approved the incorporation by reference of a certain document listed in this AD as August 11, 2020.

The FAA must receive comments on this AD by September 25, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0675; or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is listed above.

For service information identified in this final rule, contact WSK “PZL- Świdnik” S.A., Al. Lotników Polskich 1, 21-045 Świdnik, Poland, telephone +48 664 424 798, or at www.pzl.swidnik.pl. You may view the referenced service information at the FAA, Office of the Regional Counsel, Southwest Region, 10101 Hillwood Pkwy., Room 6N-321, Fort Worth, TX 76177. It is also available on the internet at https://www.regulations.gov by searching for and locating Docket No. FAA-2020-0675.

FOR FURTHER INFORMATION CONTACT: Kristi Bradley, Aerospace Engineer, Rotorcraft Standards Branch, FAA, 10101 Hillwood Pkwy., Fort Worth, TX 76177; telephone 817-222-5110; email kristin.bradley@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time.

Except for Confidential Business Information (CBI) as described in the following paragraph, and other information as described in 14 CFR 11.35, the FAA will file in the docket all comments received, as well as a report summarizing each substantive public contact with FAA personnel concerning this rulemaking during the comment period. The FAA will consider all the comments received and may conduct additional rulemaking based on those comments.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, Aerospace Engineer, Rotorcraft Standards Branch, FAA, 10101 Hillwood Pkwy., Fort Worth, TX 76177; telephone 817-222-5110; email kristin.bradley@faa.gov. Any commentary that the FAA receives which is not specifically designated as CBI will be placed in the public docket for this rulemaking.

Discussion

EASA, which is the Technical Agent for the Member States of the European Union, has issued EASA AD No. 2018-0070, dated March 27, 2018, to correct an unsafe condition for Wytwórnia Sprzętu Komunikacyjnego “PZL-Świdnik” Spółka Akcyjna (WSK, “PZL-ŚWIDNIK” S.A.) Model PZL W-3A and PZL W-3AS helicopters with M/R vibration absorber star part number (P/N) 30.23.005.01.04 installed. EASA advises that corrosion was found on the M/R vibration absorber star during routine maintenance. EASA advises subsequent investigation could not identify the root cause of the corrosion. EASA states this condition, if not detected and corrected, could lead to structural failure of the M/R vibration absorber star, possibly resulting in damage to the main or tail rotor and subsequent loss of control of the helicopter.

Accordingly, the EASA AD requires repetitive inspections of the M/R vibration absorber star, and depending on the outcome of the inspections, repair or replacement. The EASA AD also requires inspecting an M/R vibration absorber star before installation on a helicopter.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type design.

Related Service Information Under 1 CFR Part 51

WYTWORNIA SPRZĘTU KOMUNIKACYJNEGO “PZL-Świdnik” Spolka Akcyjna has issued Mandatory Bulletin No. BO-37-18-291, dated March 13, 2018, which specifies repetitively inspecting the M/R vibration absorber star for paint coating damage and for signs of corrosion. Depending on the inspection results, this service information specifies inspecting for corrosion under the bolt heads that secure the M/R vibration absorber star to the bracket and mechanically removing the paint coating on the M/R vibration absorber star to inspect further for corrosion. This service information also specifies removing corrosion and repairing mechanical damage that is within allowable limits. Additionally, this service information specifies emailing sketches showing the polishing depth in repaired M/R vibration absorber star surfaces to PZL Świdnik S.A. Finally, this service information specifies contacting PZL Świdnik S.A. for any corrosion or mechanical damage that reaches the maximum total polishing depth or for corrosion under a bolt head.

This service information is reasonably available because the interested parties have access to it through their normal course of business or by the means identified in the ADDRESSES section.

AD Requirements

This AD requires visually inspecting certain areas of the M/R vibration absorber star within an initial compliance time based on the helicopter serial number, and thereafter, repeating the inspections at intervals not to exceed 300 hours time-in-service (TIS) or 12 months, whichever occurs first. This AD requires inspecting the M/R vibration absorber star for paint coating delamination, blistering, and discoloration, and missing paint coating, a scratch, a dent, a nick, and corrosion. If there is any paint coating delamination, blistering, or discoloration, or missing paint, a scratch, a dent, a nick, or corrosion, this AD requires mechanically removing any remaining paint coating. If there is no scratch, dent, nick, or corrosion, this AD requires repairing the paint coating. If there is a scratch, a dent, a nick, or corrosion less than the accumulated maximum total polishing depth of 0.5 mm, this AD requires repairing the surface. If there is a scratch, a dent, a nick, or corrosion that exceeds the accumulated maximum total polishing depth of 0.5 mm, this AD requires removing the M/R vibration absorber star from service. This AD also requires inspecting under each bolt head P/N 30.23.000.08.04 for corrosion. Lastly, this AD requires inspecting an M/R vibration absorber star before being installed on any helicopter.

Differences Between This AD and the EASA AD

The EASA AD applies to Model PZL W-3AS helicopters, whereas this AD does not because that model is not FAA type-certificated. The EASA AD requires reporting certain information to PZL Świdnik S.A., whereas this AD does not. The EASA AD requires contacting PZL Świdnik S.A., if the accumulated maximum total polishing depth exceeds 0.5 mm or if there is corrosion under the bolt head, whereas this AD requires repairing or replacing the affected part in accordance with FAA approved repair procedures or removing the affected part from service.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance associated with this AD because there are no helicopters of this type certificate on the U.S. Registry.

FAA's Justification and Determination of the Effective Date

Section 553(b)(3)(B) of the Administrative Procedure Act (5 U.S.C.) authorizes agencies to dispense with notice and comment procedures for rules when the agency, for “good cause,” finds that those procedures are “impracticable, unnecessary, or contrary to the public interest.” Under this section, an agency, upon finding good cause, may issue a final rule without seeking comment prior to the rulemaking.

There are no helicopters with this type certificate on the U.S. Registry. Therefore, notice and opportunity for prior public comment are unnecessary pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-15-11 PZL Swidnik S.A.: Amendment 39-21174; Docket No. FAA-2020-0675; Product Identifier 2018-SW-027-AD.

(a) Applicability

This AD applies to PZL Swidnik S.A. (PZL) Model PZL W-3A helicopters, certificated in any category, with a main rotor (M/R) vibration absorber star part number (P/N) 30.23.005.01.04 installed.

(b) Unsafe Condition

This AD defines the unsafe condition as corrosion pits in the M/R vibration absorber star. This condition could result in structural failure of the M/R vibration absorber star, damage to the main and tail rotor, and subsequent loss of control of the helicopter.

(c) Effective Date

This AD becomes effective August 11, 2020.

(d) Compliance

You are responsible for performing each action required by this AD within the specified compliance time unless it has already been accomplished prior to that time.

(e) Required Actions

For helicopters with a serial number (S/N) up to 37.10.12 inclusive, within 25 hours time-in-service (TIS) or 15 days, whichever occurs first; and for helicopters with an S/N above 37.10.12, within 300 hours TIS or 12 months after the date of manufacture, whichever occurs first:

(1) Access the M/R vibration absorber by following Attachment 1, Procedure—Removal, Inspection, Repair, and Installation of Vibration Absorber Star, section II., of WYTWORNIA SPRZĘTU KOMUNIKACYJNEGO “PZL-Swidnik” Spolka Akcyjna Mandatory Bulletin No. BO-37-18-291, dated March 13, 2018 (MB BO-37-18-291 Attachment 1).

(i) Clean the M/R vibration absorber star surface. Visually inspect the M/R vibration absorber star for paint coating delamination, blistering, discoloration, and missing paint coating, a scratch, a dent, a nick, and corrosion.

(ii) If there is any paint coating delamination, blistering, or discoloration, or missing paint, any scratch, any dent, any nick, or corrosion, before further flight, mechanically remove any remaining paint coating and inspect the M/R vibration absorber star for a scratch, a dent, a nick, and corrosion. Additionally, inspect the heads of each bolt P/N 30.23.000.08.04 that secures the vibration absorber star to the bracket for corrosion under the bolt heads.

Note 1 to paragraph (e)(1)(ii) of this AD: the anodic coating may become damaged while removing the paint coating.

(A) If there is no scratch, dent, nick, or corrosion on the M/R vibration absorber star, before further flight, repair the paint coating.

(B) If there is a scratch, a dent, a nick, or corrosion on the M/R vibration absorber star not exceeding the accumulated maximum total polishing depth of 0.5 mm, using 80-100 grit abrasive paper or an equivalent grit file or scraper, polish out any scratch, dent, nick, and corrosion and do the following:

(1) Using 150-180 grit abrasive paper, blend the repaired surface and make a smooth chamfer as shown in Sketch 2. Blending Method, MB BO-37-18-291 Attachment 1. The blending width “S” must be at least 10 times greater than blending depth “h.” The radii “R1” and “R2” must be at least 5 times greater than depth “h.”

(2) Using 600-900 grit abrasive paper, polish the repaired surface and repair the paint coating.

(C) If there is a scratch, a dent, a nick, or corrosion on the M/R vibration absorber star that meets or exceeds the accumulated maximum total polishing depth of 0.5 mm, before further flight, remove from service the M/R vibration absorber star.

(D) If there is corrosion on the head of any bolt P/N 30.23.000.08.04 that secures the vibration absorber star to the bracket, before further flight, repair or replace the M/R vibration absorber star in accordance with FAA approved procedures.

(2) Thereafter, at intervals not to exceed 300 hours TIS or 1 year, whichever occurs first, perform the actions required by paragraph (e)(1) of this AD.

(3) After the effective date of this AD, do not install an M/R vibration absorber star on any helicopter unless the requirements of paragraph (e)(1) of this AD have been accomplished.

(f) Alternative Methods of Compliance (AMOCs)

(1) The Manager, Rotorcraft Standards Branch, FAA, may approve AMOCs for this AD. Send your proposal to: Kristi Bradley, Aerospace Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

The subject of this AD is addressed in European Aviation Safety Agency (now European Union Aviation Safety Agency) (EASA) AD No. 2018-0070, dated March 27, 2018. You may view the EASA AD on the internet at https://www.regulations.gov in Docket No. FAA-2020-0675.

(h) Subject

Joint Aircraft Service Component (JASC) Code: 6300, Main Rotor Drive System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) WYTWORNIA SPRZĘTU KOMUNIKACYJNEGO “PZL-Swidnik” Spolka Akcyjna Mandatory Bulletin No. BO-37-18-291, dated March 13, 2018.

(ii) [Reserved]

(3) For service information identified in this AD, contact PZL-Świdnik S.A., A1. Lotników Polskich 1, 21-045 Świdnik, Poland; telephone +48 81 468 09 01, 751 20 71; fax +48 81 468 09 19, 751 21 73; or at www.pzl.swidnik.pl.

(4) You may view this service information at the FAA, Office of the Regional Counsel, Southwest Region, 10101 Hillwood Pkwy., Room 6N-321, Fort Worth, TX 76177. For information on the availability of this material at the FAA, call 817- 222-5110.

(5) You may view this service information that is incorporated by reference at the National Archives and Records Administration (NARA). For information on the availability of this material at NARA, email fedreg.legal@nara.gov, or go to: https://www.archives.gov/federal-register/cfr/ibr-locations.html.

Issued on July 14, 2020.
Lance T. Gant,
Director, Compliance & Airworthiness Division, Aircraft Certification Service.

[FR Doc. 2020-16129 Filed 7-24-20; 8:45 am]

BILLING CODE 4910-13-P